DEPARTMENT OF COMMERCE

International Trade Administration

Renewable Energy Policy Business Roundtable in Japan

AGENCY: International Trade Administration, Department of Commerce.

ACTION: Notice.

SUMMARY: The U.S. Department of Commerce's International Trade Administration will lead a delegation of U.S. companies to participate in a Renewable Energy Policy Business Roundtable, which will be held on December 3, 2012 in Tokyo in conjunction with the U.S.-Japan Energy Policy Dialogue. The U.S. Department of Energy—the lead U.S. agency for the bilateral discussions—will co-chair the roundtable.

Following the roundtable, the delegation will travel to the northeast region for site visits. Participating companies will learn firsthand the current condition of reconstruction following the March 2011 earthquake and tsunami, and the role of renewable energy in those efforts, including local government incentives. Upon returning to Tokyo, optional business counseling will be provided by the U.S. Department of Commerce's Commercial Service.

Information on how to register (including applicable fees) for the roundtable, site visits, and business counseling will be posted online at: http://www.export.gov/reee.

DATES: The roundtable and other related events will be held in Japan the week of December 3-7, 2012. Participants must register online no later than October 31, 2012. Applications will be taken on a first-come, first-served basis due to space limitations.

FOR FURTHER INFORMATION CONTACT: Cora Dickson, Manufacturing and Services, Office of Energy and Environmental Industries, Phone: 202-482-6083, Email: Cora.Dickson@trade.gov. Gregory Briscoe, U.S. Commercial Service Tokyo, Phone: +81-3-3224-5088, Email: Gregory.Briscoe@trade.gov.

SUPPLEMENTARY INFORMATION: A Japanese Cabinet advisory panel recently recommended that Japan phase out nuclear power by the 2030s, increase its reliance on renewable energy, and take steps to improve energy efficiency. In 2011, approximately 10 percent of Japan's electricity was derived from renewable energy. This percentage is expected to increase as various incentives, such as a new feed-in tariff system (for solar, wind, geothermal, small micro/small/medium hydro, and biomass/biogas), are introduced to promote investor confidence in renewable energy projects. A long-term reform process in the electricity sector is also taking shape that may allow for more diversity in energy sources as well as hasten the deployment of smart grid technology.

All of these factors point towards potential business opportunities for American companies. U.S. clean energy companies that want to sell products and services in Japan can benefit from a deeper understanding of the changing Japanese policy and regulatory landscape, from the viewpoint of both Japan's policymakers and representatives from the private sector, who will also join the roundtable. A frank and open discussion about renewable energy will enhance the bilateral Energy Policy Dialogue by identifying key policy issues and sharing best practices.

Dated: September 27, 2012.
Catherine Vial,
Team Lead, Environmental Industries, Office of Energy and Environmental Industries.

[FR Doc. 2012-24297 Filed 10-2-12; 8:45 am]

BILLING CODE 3510-DR-P